DEPARTMENT OF ENERGY

Federal Energy Regulatory Commission

[Project No. 2187-046]

Public Service Company of Colorado; Notice of Availability of Environmental Assessment

In accordance with the National Environmental Policy Act of 1969 and the Federal Energy Regulatory Commission's (Commission or FERC) regulations, 18 CFR part 380, Commission staff reviewed Public Service Company of Colorado's (PSCo or licensee) application for amendment of license for the Georgetown Project (No. 2187) and have prepared an Environmental Assessment (EA).¹ The licensee is constructing a temporary stream bypass pipeline to divert up to 200 cubic feet per second (cfs) from South Clear Creek around the Forebay Reservoir and Dam, ultimately discharging just downstream of the dam. The bypass pipeline is intended to address dam safety and water quality concerns and support water management efforts. The action would alter how required minimum flows are transported and discharged. The project is located on South Clear Creek near Georgetown, Clear Creek County, Colorado. A portion of the project is located on federal lands administered by the U.S. Forest Service (Forest Service), within the Arapaho National Forest.

¹ The unique identification number for documents relating to this environmental review is EAXX-019-20-000-1752151774.

The EA contains Commission staff's analysis of the potential environmental effects of relocating the minimum flow discharge area, with appropriate environmental protective measures, would not constitute a major federal action that would significantly affect the quality of the human environment.

The EA may be viewed on the Commission's website at http://www.ferc.gov using the “elibrary” link. Enter the docket number (P-2187) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

All comments must be filed by December 12, 2025 by 5:00 p.m. Eastern time.

The Commission strongly encourages electronic filing. Please file comments using the Commission's eFiling system at http://www.ferc.gov/docs-filing/efiling.asp. Commenters can submit brief comments up to 6,000 characters, without prior registration, using the eComment system at http://www.ferc.gov/docs-filing/ecomment.asp. For assistance, please contact FERC Online Support. In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-2187-046

For public inquiries and assistance with making filings such as interventions, comments, or requests for rehearing, the public is encouraged to contact OPP at (202)502-6595 or OPP@ferc.gov.

For further information, contact Rebecca Martin at 202-502-6012 or Rebecca.Martin@ferc.gov.

Dated: November 12, 2025.
Carlos D. Clay,
Deputy Secretary.

[FR Doc. 2025-19971 Filed 11-14-25; 8:45 am]

BILLING CODE 6717-01-P